DEPARTMENT OF AGRICULTURE

Food Safety and Inspection Service

[Docket No. 04-053N]

Codex Alimentarius Commission: Proposals for New Work and Priorities for the Codex ad hoc Intergovernmental Task Force on Foods Derived From Biotechnology

AGENCY: Food Safety and Inspection Service, USDA.

ACTION: Notice of public meeting, request for comments.

SUMMARY: The Office of the Under Secretary for Food Safety, United States Department of Agriculture (USDA), and the Food and Drug Administration (FDA), United States Department of Health and Human Services, are sponsoring a public meeting on March 3, 2005, to provide information and receive public comments on new work and priorities for the ad hoc Intergovernmental Task Force on Food Derived from Biotechnology of the Codex Alimentarius Commission (Codex). Following approval at the 27th Session of the Codex Alimentarius Commission (June 28-July 3, 2004) to establish the Task Force, under the chairmanship of Japan, Codex agreed to solicit comments on the work that the Task Force should undertake and on the priorities for this new work.

DATES: The public meeting is scheduled for Thursday, March 3, 2005, from 2 p.m. to 5 p.m.

ADDRESSES: The public meeting will be held in Room 107-A of the Jamie L. Whitten Federal Building, 12th & Jefferson Drive, SW., Washington DC.

FSIS invites interested persons to submit comments on this notice. Comments may be submitted by any of the following methods:

• Mail, including floppy disks or CD-ROMs, and hand- or courier-delivered items: Send to the FSIS Docket Clerk, U.S. Department of Agriculture, Food Safety and Inspection Service, 300 12th Street, SW., Room 102, Cotton Annex, Washington, DC 20730. All comments received must include the Agency name and docket number 04-053N.

All comments submitted in response to this notice will be available for public inspection in the FSIS Docket Room at the address listed above between 8:30 a.m. and 4:30 p.m., Monday through Friday. The comments also will be posted on the Agency's Web site at http://www.fsis.usda.gov/regulations/2005 Notices Index/index.asp.

For further information about the Codex ad hoc Intergovernmental Task Force on Food Derived from Biotechnology contact: Bernice Slutsky, Ph.D., Special Assistant to the Secretary for Biotechnology, Office of the Secretary, U.S. Department of Agriculture, 12th Street & Jefferson Drive, Washington, DC 20250. Phone: (202) 690-0735, e-mail: Bernice.slutsky@usda.gov.

FOR FURTHER INFORMATION ABOUT THE PUBLIC MEETING CONTACT: Paulo Almeida, U.S. Codex Office, FSIS, Room 4861, South Building, 1400 Independence Avenue, SW., Washington, DC 20250-3700, phone: (202) 690-4042, Fax: (202) 720-3157.

SUPPLEMENTARY INFORMATION:

Background

The Codex Alimentarius Commission (Codex) was established in 1962 by two United Nations organizations, the Food and Agriculture Organization (FAO) and the World Health Organization (WHO). Codex is the major international standard-setting organization for protecting the health and economic interests of consumers and encouraging fair international trade in food. Through adoption of food standards, codes of practice, and other guidelines developed by its committees, and by promoting their adoption and implementation by governments, Codex seeks to ensure that the world's food supply is sound, wholesome, free from adulteration, and correctly labeled. In the United States, USDA, FDA, and the Environmental Protection Agency (EPA) manage and carry out U.S. Codex activities.

The Codex ad hoc Intergovernmental Task Force on Foods Derived from Biotechnology develops standards, guidelines and recommendations for foods derived from modern biotechnology or for traits introduced into foods by modern biotechnology, on the basis of scientific evidence and risk analysis, having regard, where appropriate, to other legitimate factors relevant to the health of consumers and the promotion of fair practices in the food trade.

Public Meeting

At the March 3, 2005 public meeting, attendees will have the opportunity to pose questions and offer comments on work to be undertaken by the Codex ad hoc Task Force on Foods Derived from Biotechnology. Written comments may be offered at the meeting or sent to Dr. Bernice Slutsky (See ADDRESSES). Written comments should state that they relate to activities of the proposed ad hoc Codex Intergovernmental Task Force for Foods Derived from Biotechnology.

Additional Public Notification

Public awareness of all segments of rulemaking and policy development is important. Consequently, in an effort to ensure that the public and in particular minorities, women, and persons with disabilities, are aware of this notice, FSIS will announce it on-line through the FSIS Web page located at http://www.fsis.usda.gov/regulations/2005_Notices_Index/.

FSIS also will make copies of this Federal Register publication available through the FSIS Constituent Update, which is used to provide information regarding FSIS policies, procedures, regulations, Federal Register notices, FSIS public meetings, recalls, and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an email subscription service which provides an automatic and customized notification when popular pages are updated, including Federal Register publications and related documents. This service is available at http://www.fsis.usda.gov/news_and_events/email_subscription/ and allows FSIS customers to sign up for subscription options across eight categories. Options range from recalls to export information to regulations, directives and notices. Customers can add or delete subscriptions themselves and have the option to password protect their account.

Done in Washington, DC on: February 8, 2005.
F. Edward Scarbrough,
U.S. Manager for Codex Alimentarius.

[FR Doc. 05-2824 Filed 2-14-05; 8:45 am]

BILLING CODE 3410-DM-P